DEPARTMENT OF TRANSPORTATION

Federal Aviation Administration

14 CFR Part 39

[Docket No. 2001-SW-66-AD; Amendment 39-12879; AD 2002-18-05]

RIN 2120-AA64

Airworthiness Directives; Eurocopter France Model SA330F, SA330G, SA330J, AS332C, AS332L, and AS332L1 Helicopters

AGENCY: Federal Aviation Administration, DOT.

ACTION: Final rule.

SUMMARY: This amendment adopts a new airworthiness directive (AD) for the specified Eurocopter France (ECF) model helicopters that requires inspecting each tail rotor blade de-icing rotating collector (collector) for radial play and rotation torque at specified intervals. If the play or torque exceeds the specified standard, this AD requires replacing the collector with an airworthy part. This amendment is prompted by excessive play measured on the collector of an ECF Model AS332 helicopter. The actions specified by this AD are intended to prevent wear of a collector bearing, loss of tail rotor effectiveness, and subsequent loss of control of the helicopter.

EFFECTIVE DATE: Effective October 21, 2002.

The incorporation by reference of certain publications listed in the regulations is approved by the Director of the Federal Register as of October 21, 2002.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., Suite 700, Washington, DC.

FOR FURTHER INFORMATION CONTACT: Jim Grigg, Aviation Safety Engineer, FAA, Rotorcraft Directorate, Rotorcraft Standards Staff, Fort Worth, Texas 76193-0110, telephone (817) 222-5490, fax (817) 222-5961.

SUPPLEMENTARY INFORMATION: A proposal to amend 14 CFR part 39 to include an AD for the specified ECF model helicopters was published in the Federal Register on June 7, 2002 (67 FR 39314). That action proposed to require inspecting the radial play and the rotational torque on the collector initially and at specified intervals. If the radial play or the rotational torque exceeds 0.1 millimeter or 3.5 daN, respectively, the AD proposed replacing the collector with an airworthy part.

The Direction Generale De L'Aviation Civile (DGAC), the airworthiness authority for France, notified the FAA that an unsafe condition may exist on ECF Model SA330 helicopters. The DGAC advises of excessive play measured on the collector.

ECF has issued AS 332 Service Bulletin No. 05.00.45, Revision 1, dated August 16, 1999, and SA 330 Alert Service Bulletin No. 05.88, dated June 8, 2001. The service bulletins specify checking the condition of the bearings and the collector-to-rotor attachment shaft at regular intervals, measuring the radial play, measuring the rotation torque of the collector, and state the acceptable radial and rotational tolerances. The DGAC classified the service bulletins as mandatory and issued AD No. 2001-317-082(A), dated July 25, 2001, to ensure the continued airworthiness of these helicopters in France.

Interested persons have been afforded an opportunity to participate in the making of this amendment. No comments were received on the proposal or the FAA's determination of the cost to the public. The FAA has determined that air safety and the public interest require the adoption of the rule as proposed.

The FAA estimates that this AD will affect 3 helicopters of U.S. registry, that it will take approximately 2 work hours per helicopter to inspect and replace the collector, and that the average labor rate is $60 per work hour. Required parts will cost approximately $300. Based on these figures, the total cost impact of the AD on U.S. operators is estimated to be $1260 to replace the collectors on the entire fleet.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-18-05 Eurocopter France: Amendment 39-12879. Docket No. 2001-SW-66-AD.

Applicability: Model SA330F, SA330G, SA330J, AS332C, AS332L, and AS332L1 helicopters with a tail rotor blade de-icing rotating collector (collector), part number (P/N) APCL 110-265-201, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Within 100 hours time-in-service (TIS) or 6 months, whichever occurs first, unless accomplished previously, and then at intervals not to exceed 110 hours TIS or 6 months, whichever occurs first.

To prevent wear of a collector bearing, loss of tail rotor effectiveness, and subsequent loss of control of the helicopter, accomplish the following:

(a) Inspect the radial play and the rotation torque of the collector in accordance with the Accomplishment Instructions, paragraph 2.B., of Eurocopter France AS 332 Service Bulletin No. 05.00.45, Revision 1, dated August 16, 1999, for the Model AS 332 helicopters, or Eurocopter France SA 330 Alert Service Bulletin No. 05.88, dated June 8, 2001, for the Model SA 330 helicopters. If the radial play exceeds 0.1 millimeter (0.004 inches) or the rotational torque exceeds 3.5 daN (7.9 lbs), before further flight, replace the collector with an airworthy part.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits may be issued in accordance with 14 CFR 21.197 and 21.199 to operate the helicopter to a location where the requirements of this AD can be accomplished.

(d) The inspection shall be done in accordance with the Accomplishment Instructions, paragraph 2.B., of Eurocopter France AS 332 Service Bulletin No. 05.00.45, Revision 1, dated August 16, 1999, for the Model AS 332 helicopters, or Eurocopter France SA 330 Alert Service Bulletin No. 05.88, dated June 8, 2001, for the Model SA 330 helicopters. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., Suite 700, Washington, DC.

Note 3: The subject of this AD is addressed in Direction General De L'Aviation Civile (France) AD No. 2001-317-082(A), dated July 25, 2001.

(e) This amendment becomes effective on October 21, 2002.

Issued in Fort Worth, Texas, on August 28, 2002.
Eric D. Bries,
Acting Manager, Rotorcraft Directorate, Aircraft Certification Service.

[FR Doc. 02-22896 Filed 9-13-02; 8:45 am]

BILLING CODE 4910-13-P